DEPARTMENT OF THE TREASURY

Internal Revenue Service

26 CFR Part 1

[REG-110896-98]

RIN 1545-AW35

Charitable Remainder Trusts; Application of Ordering Rule

Correction

In proposed rule document 03-29042 beginning on page 65419 in the issue of Thursday, November 20, 2003, make the following corrections:

1. On page 65419, in the second column, in the second paragraph, in the fifth line from the bottom, “under “” should read “under §”.

2. On the same page, in the third column, in the third paragraph, in the 11th line, “[DATE OF PUBLICATION OF THIS DOCUMENT IN THE FEDERAL REGISTER]” should read “November 20, 2003”.

[FR Doc. C3-29042 Filed 12-19-03; 8:45 am]

BILLING CODE 1505-01-D